NATIONAL AERONAUTICS AND SPACE ADMINISTRATION

[Notice (11-062)]

National Environmental Policy Act; Wallops Flight Facility; Site-Wide

AGENCY: National Aeronautics and Space Administration.

ACTION: Notice of intent to prepare a Site-wide Programmatic Environmental Impact Statement (PEIS) and to conduct scoping for expanding operations at Wallops Flight Facility (WFF), in Virginia.

SUMMARY: Pursuant to the National Environmental Policy Act, as amended, (NEPA) (42 U.S.C. 4321 et. seq.), the Council on Environmental Quality Regulations for Implementing the Procedural Provisions of NEPA (40 CFR Parts 1500-1508), and NASA's NEPA policy and procedures (14 CFR Part 1216, subpart 1216.3), NASA intends to prepare a PEIS for the expansion of operations at WFF. The Federal Aviation Administration (FAA), Office of Commercial Space Transportation (AST) and Air Traffic Organization (ATO) Office; the National Oceanic and Atmospheric Administration (NOAA), National Environmental Satellite, Data, and Information Service (NESDIS); the Department of the Navy, Naval Sea Systems Command (NAVSEA) and Naval Air Systems Command (NAVAIR); the Department of the Army, Corps of Engineers (USACE); the U.S. Coast Guard (USCG); and the U.S. Fish and Wildlife Service (USFWS) have accepted requests to participate as Cooperating Agencies as they either have permanent facilities or missions at WFF or possess regulatory authority or specialized expertise pertaining to the Proposed Action.

The purpose of this notice is to apprise interested agencies, organizations, and individuals of NASA's intent to prepare the PEIS and to request input regarding the definition of reasonable alternatives and significant environmental issues to be evaluated in the PEIS.

NASA will hold a public scoping meeting in cooperation with FAA-AST, FAA-ATO, NOAA-NESDIS, NAVSEA, NAVAIR, USACE, USCG, and USFWS, as part of the NEPA process associated with the development of the PEIS. The scoping meeting location and date identified at this time are provided under SUPPLEMENTARY INFORMATION below.

DATES: Interested parties are invited to submit comments on environmental issues and concerns, preferably in writing, on or before August 15, 2011, to assure full consideration during the scoping process.

ADDRESSES: Comments submitted by mail should be addressed to Shari Silbert, Manager, Site-wide PEIS, NASA Goddard Space Flight Center's Wallops Flight Facility, Wallops Island, Virginia 23337. Comments may be submitted via e-mail to Shari.A.Silbert@nasa.gov.

FOR FURTHER INFORMATION CONTACT: Shari Silbert, Manager, Site-wide PEIS, NASA Wallops Flight Facility, Wallops Island, Virginia 23337; telephone (757) 824-2327; e-mail: Shari.A.Silbert@nasa.gov. Additional information about NASA's WFF may be found on the Internet at http://www.nasa.gov/centers/wallops/home/index.html. Information regarding the NEPA process for this proposal and supporting documents (as available) are located at http://sites.wff.nasa.gov/code250/site-wide_eis.html.

SUPPLEMENTARY INFORMATION:

Background

WFF is a NASA Goddard Space Flight Center field installation located in Accomack County on the Eastern Shore of Virginia. The facility consists of three distinct landmasses—the Main Base, Wallops Mainland, and Wallops Island—totaling nearly 2,630 hectares (6,500 acres). It is the oldest active launch range in the continental United States and the only range completely under NASA management. For over 65 years, WFF has flown thousands of research vehicles in the quest for information on the characteristics of airplanes, rockets, and spacecraft, and to increase the knowledge of the Earth's upper atmosphere and the near space environment. The flight programs and projects currently supported by WFF include sounding rockets, scientific balloons, manned and unmanned experimental aircraft, space shuttle and orbital tracking, next-generation launch vehicle development, expendable launch vehicles, and small and mid-size orbital spacecraft. To meet the safety and technical requirements of its various missions, many of WFF's primary launch support facilities reside on Wallops Island (island) which is located directly on the Atlantic Ocean.

In keeping with the principles, goals, and guidelines of the 2010 National Space Policy, WFF not only fulfills its own mission, but also provides unique services to NASA, commercial customers, defense, and academia. One guiding principle of the National Space Policy is for Federal agencies to facilitate the commercial space industry. The recent growth of the Mid-Atlantic Regional Spaceport on Wallops Island is a real-world example of WFF's commitment to making commercial access to space a reality. Another goal of the 2010 National Space Policy is that Federal agencies will improve their partnerships through cooperation, collaboration, information sharing, and/or alignment of common pursuits with each other. WFF supports aeronautical research, science technology, and education by providing other NASA centers and government agencies access to resources such as special use (i.e., restricted) airspace, research runways, and launch pads. Additionally, WFF regularly enables a wide array of U.S. Department of Defense (DoD) research and development and training missions, including target and missile launches, and aircraft development.

Existing NEPA Documents and Context

In January 2005, NASA issued a Final Site-Wide Environmental Assessment (EA) and Finding of No Significant Impact for WFF. However, since then substantial growth has occurred and NASA has prepared several supplemental NEPA documents including the 2008 EA for the Wallops Research Park, the 2009 EA for the Expansion of the Wallops Flight Facility Launch Range, the 2010 Shoreline Restoration and Infrastructure Protection Program PEIS, the 2011 Alternative Energy Program EA, and the 2011 Draft EA for the Main Entrance Reconfiguration. Additionally, WFF has recently updated its 20-year Master Plan, which proposed several new facilities and numerous infrastructure improvements. As such, NASA is initiating the preparation of one consolidated Site-wide PEIS for its current and future missions and operations.

Cooperating Agency Actions

The Site-wide PEIS will serve as a decision-making tool not only for NASA but also for its Federal Cooperating Agencies, FAA-AST, FAA-ATO, NOAA-NESDIS, NAVSEA, NAVAIR, USACE, USCG, and USFWS. Each of these agencies will be involved closely in NASA's NEPA process given the potential for their undertaking actions related to NASA's as summarized below:

• FAA-AST: Issuing licenses for operation of additional commercial launch pads or operation of new commercial launch vehicles;

• FAA-ATO: Granting a proposed increase in restricted airspace allocation;

• NOAA-NESDIS: Undertaking facility improvements at the Wallops Command and Data Acquisition Station;

• NAVSEA: Undertaking additional operations, improvements to infrastructure, and target launches at the Surface Command System Center, and providing oversight of the Virginia Capes Operating Area offshore of WFF;

• NAVAIR: Increasing existing research, development, test, and evaluation mission tempos and new missions including pilot proficiency training and unmanned aerial systems including the Broad Area Maritime Surveillance (BAMS);

• USACE: Issuing permits for proposed work occurring within U.S. waters, including wetlands, design and oversight of WFF's Shoreline Restoration and Infrastructure Protection Program;

• USCG: Undertaking improvements to infrastructure at the Coast Guard residential housing, issuing a permit for proposed Wallops Island causeway bridge reconstruction, and assuming Captain of the Port Authority for clearing the launch range during operations; and

• USFWS: Issuing incidental take statements and providing management of special status species, partnering with NASA on mutually beneficial projects related to the Chincoteague National Wildlife Refuge, and participating in a land use exchange that would enable the operation of a low-impact, temporary launch pad on the northernmost 300 meters (1,000 feet) of USWFS-owned Assawoman Island in exchange for the conservation of a NASA-owned wooded, upland parcel south of the Wallops Visitor Center adjacent to the Wallops Island National Wildlife Refuge.

Alternatives

The PEIS will evaluate the potential environmental impacts from a range of reasonable alternatives that meet NASA's need to ensure continued growth at WFF while also preserving the ability to safely conduct its historical baseline of operations. Currently under consideration are two action alternatives and a No Action alternative. Alternative One would support a number of facility projects ranging from new construction, demolition, and renovation; enlargement of the restricted airspace; addition of two rocket launchers on Wallops Island; replacement of the Wallops causeway bridge; maintenance dredging between the boat docks at the Main Base and Wallops Island; and the introduction of new opportunities and expansion of existing NASA and DoD programs at WFF including Navy pilot proficiency training and BAMS. Alternative Two would include all activities described in Alternative One and also comprise additional construction projects and several new mission opportunities, including the introduction of commercial manned space flight from WFF and the abovementioned land use exchange with USFWS. Under the No Action Alternative, WFF and its partners would continue the existing operations and programs previously discussed in the 2005 Site-Wide EA. NASA anticipates that the public will be most interested in the potential environmental impacts of each alternative on protected and special status species, wetlands, noise, and socioeconomics.

Scoping Meeting

NASA and its Cooperating Agencies plan to hold a public scoping meeting to provide information on the Site-wide PEIS and to solicit public comments regarding environmental concerns and alternatives to be considered in the PEIS. The public scoping meeting will be held Wednesday, August 3, 2011, at the WFF Visitor Center, Wallops Island, Virginia, 6 p.m.-8 p.m.

As the PEIS is prepared, the public will be provided several opportunities for involvement, the first of which is during scoping. Even if an interested party does not have input at this time, other avenues, including reviews of the Draft and Final PEIS, will be offered in the future. The availability of these documents will be published in the Federal Register and through local news media to ensure that all members of the public have the ability to actively participate in the NEPA process.

Olga M. Dominguez,
Assistant Administrator for Strategic Infrastructure.

[FR Doc. 2011-17290 Filed 7-8-11; 8:45 am]

BILLING CODE 7510-13-P